DEPARTMENT OF EDUCATION

[CFDA Number 84.362B]

Native Hawaiian Education Council

AGENCY: Office of Elementary and Secondary Education. Department of Education.

ACTION: Notice soliciting recommendations for membership of the Native Hawaiian Education Council and on the criteria for selecting members.

SUMMARY: We are soliciting recommendations regarding whom the Secretary of Education should appoint to the Native Hawaiian Education Council and the criteria that should be used in selecting members of the Council.

SUPPLEMENTARY INFORMATION: General: Section 7204 of the Elementary and Secondary Education Act of 1965 (ESEA), as amended by the No Child Left Behind Act of 2001 (Pub. L. 107-110), authorizes the Secretary of Education to establish a Native Hawaiian Education Council to help coordinate the educational and related services and programs available to Native Hawaiians, including programs receiving funding under the Native Hawaiian Education Act (part B of title VII of the reauthorized ESEA). The Council will be responsible for assessing the extent to which these services and programs meet the needs of Native Hawaiians, and for collecting data on the status of Native Hawaiian education. In addition, the Council will provide direction and guidance to Federal, State, and local agencies to improve the use of resources relating to Native Hawaiian education, and will serve in an advisory capacity, where appropriate. The Council will also provide administrative support and financial assistance to any individual island councils established under the statute to address their distinct needs.

The legislation states that the Native Hawaiian Education Council may consist of no more than twenty-one members, unless otherwise determined by a majority of the Council. Furthermore, the legislation provides that at least ten members of the Education Council must be providers of Native Hawaiian education services and ten members must be Native Hawaiians or Native Hawaiian education consumers. In addition, membership must include a representative of the State of Hawaii Office of Hawaiian Affairs. The Secretary of Education will appoint members of the Native Hawaiian Education Council based on recommendations he receives from the Native Hawaiian community.

Request for Recommendations

To assist the Secretary in establishing an Education Council that will effectively advance the purposes of the Native Hawaiian Education Act, the Secretary requests that the public provide the Department with either or both of the following—

(1) The names of individuals whom you recommend for appointment to the Native Hawaiian Education Council, together with letters of recommendation describing the qualifications of those individuals for service on the Council, and addresses and telephone numbers of those individuals; and

(2) Recommendations concerning the criteria that the Secretary should use in selecting members of the Council.

DATES: In order for the Secretary to establish the Council on a timely basis, we request that the recommendations concerning Council membership and selection criteria be submitted on or before August 15, 2003.

ADDRESSES: Address all recommendations in response to this notice to Mrs. Lynn Thomas, U.S. Department of Education, 400 Maryland Avenue, SW., room 3C126, Mail Stop 6140, Washington, DC 20202. If you prefer to send your recommendations by facsimile transmission, use the following number: (202) 205-5630. If you prefer to send your recommendations through the Internet, use the following address: lynn.thomas@ed.gov.

FOR FURTHER INFORMATION CONTACT: Mrs. Lynn Thomas. Telephone: (202) 205-1541 or via Internet: http://www.commentNHEC@ed.gov.

If you use a telecommunications device for the deaf (TDD), you may call the Federal Information Relay Service (FIRS) at 1-800-877-8339.

Individuals with disabilities may obtain this notice in an alternative format (e.g., Braille, large print, audiotape, or computer diskette) on request to the contact person listed above.

Electronic Access to This Document

You may view this document, as well as other Department of Education documents published in the Federal Register in text or Adobe Portable Document Format (PDF) on the Internet at the following site: http://www.ed.gov/legislation/FedRegister

To use PDF you must have Adobe Acrobat Reader, which is available free at this site. If you have questions about using PDF, call the U.S. Government Printing Office (GPO), toll-free, at 1-888-293-6498; or in the Washington, DC area at (202) 512-1530.

Note: The official version of this document is the document published in the Federal Register. Free Internet access to the official version of the Federal Register and the Code of Federal Regulations is available on GPO access at: http://www.access.gpo.gov/nara/index.html

Dated: July 10, 2003.
Eugene W. Hickok,
Under Secretary of Education.

[FR Doc. 03-17871 Filed 7-15-03; 8:45 am]

BILLING CODE 4000-01-M